NUCLEAR REGULATORY COMMISSION

[Docket No. 040-00044]

Notice of Consideration of Request for License Termination of Rolls-Royce Corporation License and Release of Its Facility In Indianapolis, IN; Amendment and Opportunity to Provide Comments and Request a Hearing

ACTION: Notice of consideration of amendment request to terminate Source Material License No. STB-204 and release of facility for unrestricted use.

FOR FURTHER INFORMATION CONTACT: Dr. Peter J. Lee, Division of Nuclear Materials Safety, U.S. Nuclear Regulatory Commission, Region III, 801 Warrenville Road, Lisle, Illinois 60532-4351; telephone (630) 829-9870 or by e-mail at pjl2@nrc.gov.

SUPPLEMENTARY INFORMATION:

I. Introduction

The U.S. Nuclear Regulatory Commission (NRC) is considering the issuance of an amendment to Rolls-Royce Corporation (Rolls-Royce) Source Material License No. STB-204, to terminate the License and release its facility located at 2355 South Tibbs Avenue in Indianapolis, Indiana, for unrestricted use. The site was initially licensed under the name of General Motors Corporation, Allison Division. Other names on the license were Allison Gas Turbine Division, General Motors Corporation, and Allison Engine Company, Inc., prior to the license being amended to Rolls-Royce in February 2003. In December 1956, a license was approved for the fabrication of aircraft components made of magnesium alloy containing not to exceed 4 percent by weight of thorium. Fabrication of aircraft parts containing thorium continued until 1989. In 1994, the license was amended to allow possession incident to storage only for the licensed materials. On December 3, 2002, Rolls-Royce submitted its request to the NRC to terminate its license.

The NRC staff has prepared an Environmental Assessment (EA) in support of this licensing action in accordance with the requirements of 10 CFR Part 51. The conclusion of the EA is a Finding of No Significant Impact (FONSI) for the proposed licensing action.

II. EA Summary

The staff has examined Rolls-Royce's request and the information that the licensee has provided in support of its request, including the surveys performed by Rolls Royce to demonstrate compliance with 10 CFR 20.1402, “ ‘Radiological Criteria for Unrestricted Use,’ ” to ensure that the NRC's decision is protective of the public health and safety and the environment. All machining operations for the fabrication of aircraft parts containing thorium were conducted under “wet conditions,” meaning drilling, grinding, burring, etc., were performed with the castings under oil/liquid coolants intended to prevent potential fires. This industry-wide method of machining not only prevents potential fires, it prevents contamination from airborne thorium dust. The thoriated magnesium cuttings, turnings, scraps, coolants, and clean-up debris were collected and sent off-site to a low-level radioactive waste disposal site.

The licensee's final status survey did not show any residual contamination in the facility. Therefore, the staff has determined that there will be no environmental impacts associated with the release for unrestricted use of the Rolls-Royce Corporation facility.

III. Finding of No Significant Impact

The staff has prepared the EA (summarized above) in support of Rolls-Royce's proposed license amendment to release the Indianapolis facility for unrestricted use. On the basis of the EA, the staff has concluded that the environmental impacts from the proposed action would not be significant. Accordingly, the staff has determined that a FONSI is appropriate, and has determined that the preparation of an environmental impact statement is not warranted.

IV. Further Information

In accordance with 10 CFR 2.790 of the NRC's “Rules of Practice,” Rolls-Royce's request, the EA summarized above, and the documents related to this proposed action are available electronically for public inspection and copying from the Publicly Available Records (PARS) component of NRC's document system (ADAMS). ADAMS is accessible from the NRC Web site at http://www.nrc.gov/reading-rm.html. These documents include Rolls-Royce's letters to NRC dated December 3, 2002, and May 5, 2003, with enclosures (Accession No. ML031700067); and the EA summarized above (Accession No. ML031980587). Any questions with respect to this action should be directed to Dr. Peter J. Lee, Division of Nuclear Materials Safety, U.S. Nuclear Regulatory Commission, Region III, 801 Warrenville Road, Lisle, Illinois 60532-4351; telephone (630) 829-9870 or by e-mail at pjl2@nrc.gov.

Dated at Lisle, Illinois, this 17th day of July, 2003.
Christopher G. Miller,
Chief, Decommissioning Branch, Division of Nuclear Materials Safety, RIII.

[FR Doc. 03-19065 Filed 7-25-03; 8:45 am]

BILLING CODE 7590-01-P